DEPARTMENT OF LABOR

Occupational Safety and Health Administration

29 CFR Part 1915

Incorporation by Reference; Notice of Corrections

AGENCY: Occupational Safety and Health Administration (OSHA), Labor.

ACTION: Final rule; correcting amendments.

SUMMARY: OSHA is making minor corrections to the Incorporation by Reference (IBR) section for Maritime due to inadvertent mistakes in three final rules: Updating OSHA Standards Based on National Consensus Standards, Personal Protective Equipment; Updating OSHA Standards Based on National Consensus Standards, Eye and Face Protection; and Standards Improvement Project-Phase IV. The notice also updates contact information for a government agency and consensus organizations in the Incorporation by Reference section and adjusts the codification to meet Office of the Federal Register requirements.

DATES: Effective October 4, 2021.

FOR FURTHER INFORMATION CONTACT:

Press inquiries: Frank Meilinger, Director, OSHA Office of Communications; telephone: (202) 693-1999; email: meilinger.francis2@dol.gov.

General and technical information: Amy Wangdahl, Director, Office of Maritime and Agriculture, OSHA Directorate of Standards and Guidance; telephone: (202) 693-2066; email: wangdahl.amy@dol.gov.

SUPPLEMENTARY INFORMATION:

I. Summary and Explanation

OSHA published three final rules containing inadvertent errors in the Incorporation by Reference section for Maritime, § 1915.5. The final rules were Updating OSHA Standards Based on National Consensus Standards, Personal Protective Equipment, published September 9, 2009 (74 FR 46350); Updating OSHA Standards Based on National Consensus Standards, Eye and Face Protection, published March 25, 2016 (81 FR 16085); and Standards Improvement Project-Phase IV, published May 14, 2019 (84 FR 21416). The agency is submitting this document to correct errors in these three final rules that included numerical and typographical errors, as well as move paragraph § 1915.5 (c) to paragraph (b)(3), so that all incorporation by reference (IBR) approval and contact language is contained in one paragraph (see 1 CFR part 51 and the Office of the Federal Register's (OFR's) IBR Handbook). In addition, this document updates the contact information for the National Archives and Records Administration (NARA) in former § 1915.5(c), National Safety Council in § 1915.5(d)(4) and (5), IHS Standards Store in § 1915.5(d)(6)(ii), (7)(ii) and (8)(ii), TechStreet Store in § 1915.5(d)(6)(iii), (7)(iii) and (8)(iii), International Safety Equipment Association (ISEA) in § 1915.5(d)(9) to (11), and American Society of Mechanical Engineers (ASME) in § 1915.5(e), American Conference of Governmental Industrial Hygienists (ACGIH) in § 1915.5(f), National Fire Protection Association (NFPA) in former § 1915.5(f)(1)(i), and ASTM International in § 1915.5(g). Paragraphs § 1915.5 (d)(7) and (d)(8) incorrectly cross-referenced part 1910 instead of part 1915. All of paragraph (f)(1)(i) was out of sequence and renumbered as paragraph (i). Table 1 summarizes the errors, omission, and updates by paragraph for § 1915.5. Additional revisions to meet Office of the Federal Register requirements, such as the removal of full paragraph citations for outlying sections, are included in the revision and republishing of § 1915.5.

Table 1—Summary of Revisions
Current language | Corrected language | Explanation
1915.5(b)(3)—Currently paragraph (c) Copies of standards listed in this section and issued by private standards organizations are available for purchase from the issuing organizations at the addresses or through the other contact information listed below for these private standards organizations. In addition, the standards are available for inspection at any Regional Office of the Occupational Safety and Health Administration (OSHA), or at the OSHA Docket Office, U.S. Department of Labor, 200 Constitution Avenue NW, Room N-3508, Washington, DC 20210; telephone: 202-693-2350 (TTY number: 877-889-5627). These standards are also available for inspection at the National Archives and Records Administration (NARA). For information on the availability of these standards at NARA, telephone: 202-741-6030, or go to www.archives.gov/federalregister/cfr/ibr-locations.html. | 1915.5(b)(3) Copies of standards listed in this section and issued by private standards organizations are available for purchase from the issuing organizations at the addresses or through the other contact information listed elsewhere in this section for these private standards organizations. In addition, the standards are available for inspection at any Regional Office of the Occupational Safety and Health Administration (OSHA), or at the OSHA Docket Office, U.S. Department of Labor, 200 Constitution Avenue NW, Room N-3508, Washington, DC 20210; telephone: 202-693-2350 (TTY number: 877-889-5627). These standards are also available for inspection at the National Archives and Records Administration (NARA). For information on the availability of these standards at NARA, email fr.inspection@nara.gov, or go to www.archives.gov/federal-register/cfr/ibr-locations.html. | Paragraph (c), which contains availability and contact information for OSHA, is redesignated paragraph (b)(3), so that all required approval and availability language is in a single paragraph, following OFR's IBR requirements. Update contact information for the NARA IBR.
1915.5(d)(4) ANSI Z41-1999, American National Standard for Personal Protection-Protective Footwear; IBR approved for § 1915.156(b)(1)(ii). Copies of ANSI Z41-1999 are available for purchase only from the National Safety Council, P.O. Box 558, Itasca, IL 60143-0558; telephone: 1-800-621-7619; fax: 708-285-0797; website: http://www.nsc.org. | 1915.5(d)(4) ANSI Z41-1999, American National Standard for Personal Protection—Protective Footwear; IBR approved for § 1915.156(b). Copies of ANSI Z41-1999 are available for purchase only from the National Safety Council, 1121 Spring Lake Drive, Itasca, IL 60143-3201; telephone: (800) 621-7619; fax: 630-285-1434; website: www.nsc.org. | Remove full paragraph citations for outlying sections. Update contact information for the National Safety Council.
1915.5(d)(5) ANSI Z41-1991, American National Standard for Personal Protection-Protective Footwear; IBR approved for § 1915.156(b)(1)(iii). Copies of ANSI Z41-1991 are available for purchase only from the National Safety Council, P.O. Box 558, Itasca, IL 60143-0558; telephone: 1-800-621-7619; fax: 708-285-0797; website: http://www.nsc.org. | 1915.5(d)(5) ANSI Z41-1991, American National Standard for Personal Protection—Protective Footwear; IBR approved for § 1915.156(b). Copies of ANSI Z41-1991 are available for purchase only from the National Safety Council, 1121 Spring Lake Drive, Itasca, IL 60143-3201; telephone: (800) 621-7619; fax: 630-285-1434; website: www.nsc.org. | Remove full paragraph citations for outlying sections. Update contact information for the National Safety Council.
1915.5(d)(6)(ii), (7)(ii), and (8)(ii) IHS Standards Store, 15 Inverness Way East, Englewood, CO 80112; telephone: (877) 413-5184; website: http://global.ihs.com; or | 1915.5(d)(6)(ii), (7)(ii), and (8)(ii) IHS Standards Store, 15 Inverness Way East, Englewood, CO 80112; telephone: (800) 447-2273; website: https://global.ihs.com; or | Update contact information for the IHS Standards Store.
1915.5(d)(6)(iii), (7)(iii), and (8)(iii) TechStreet Store, 3916 Ranchero Dr., Ann Arbor, MI 48108; telephone: (877) 699-9277; website: http://techstreet.com. | 1915.5(d)(6)(iii), (7)(iii), and (8)(iii) TechStreet Store, 3025 Boardwalk Drive, Suite 220, Ann Arbor, MI 48108; telephone: (855) 999-9870; website: www.techstreet.com. | Update contact information for the TechStreet Store.
1915.5(d)(7) ANSI Z87.1-2003, Occupational and Educational Personal Eye and Face Protection Devices, approved June 19, 2003; IBR approved for § 1910.153(b). * * * | 1915.5(d)(7) ANSI Z87.1-2003, Occupational and Educational Personal Eye and Face Protection Devices, approved June 19, 2003; IBR approved for § 1915.153(b). * * * | The 2016 revision (81 FR 16085, March 25, 2016) incorrectly changed this cross-reference from part 1915 to part 1910.
1915.5(d)(8) ANSI Z87.1-1989 (R-1998), Practice for Occupational and Educational Eye and Face Protection, Reaffirmation approved January 4, 1999; IBR approved for § 1910.153(b). * * * | 1915.5(d)(8) ANSI Z87.1-1989 (R-1998), Practice for Occupational and Educational Eye and Face Protection, Reaffirmation approved January 4, 1999; IBR approved for § 1915.153(b). * * * | The 2016 revision (81 FR 16085, March 25, 2016) incorrectly changed this cross-reference from part 1915 to part 1910.
1915.5(d)(9) American National Standards Institute (ANSI) Z89.1-2009, American National Standard for Industrial Head Protection, approved January 26, 2009; IBR approved for § 1915.155(b)(1)(i). Copies of ANSI Z89.1-2009 are available for purchase only from the International Safety Equipment Association, 1901 North Moore Street, Arlington, VA 22209-1762; telephone: 703-525-1695; fax: 703-528-2148; website: www.safetyequipment.org. | 1915.5(d)(9) American National Standards Institute (ANSI) Z89.1-2009, American National Standard for Industrial Head Protection, approved January 26, 2009; IBR approved for § 1915.155(b). Copies of ANSI Z89.1-2009 are available for purchase only from the International Safety Equipment Association, 1101 Wilson Boulevard, Suite 1425, Arlington, VA 22209-1762; telephone: 703-525-1695; fax: 703-528-2148; website: www.safetyequipment.org. | Remove full paragraph citations for outlying sections. Update mailing address for the International Safety Equipment Association.
1915.5(d)(10) American National Standards Institute (ANSI) Z89.1-2003, American National Standard for Industrial Head Protection; IBR approved for § 1915.155(b)(1)(ii). Copies of ANSI Z89.1-2003 are available for purchase only from the International Safety Equipment Association, 1901 North Moore Street, Arlington, VA 22209-1762; telephone: 703-525-1695; fax: 703-528-2148; website: www.safetyequipment.org. | 1915.5(d)(10) American National Standards Institute (ANSI) Z89.1-2003, American National Standard for Industrial Head Protection; IBR approved for § 1915.155(b). Copies of ANSI Z89.1-2003 are available for purchase only from the International Safety Equipment Association, 1101 Wilson Boulevard, Suite 1425, Arlington, VA 22209-1762; telephone: 703-525-1695; fax: 703-528-2148; website: www.safetyequipment.org. | Remove full paragraph citations for outlying sections. Update mailing address for the International Safety Equipment Association.
1915.5(d)(11) American National Standards Institute (ANSI) Z89.1-1997, American National Standard for Personnel Protection—Protective Headwear for Industrial Workers—Requirements; IBR approved for § 1915.155(b)(1)(iii). Copies of ANSI Z89.1-1997 are available for purchase only from the International Safety Equipment Association, 1901 North Moore Street, Arlington, VA 22209-1762; telephone: 703-525-1695; fax: 703-528-2148; website: www.safetyequipment.org. | 1915.5(d)(11) American National Standards Institute (ANSI) Z89.1-1997, American National Standard for Personnel Protection—Protective Headwear for Industrial Workers—Requirements; IBR approved for § 1915.155(b). Copies of ANSI Z89.1-1997 are available for purchase only from the International Safety Equipment Association, 1101 Wilson Boulevard, Suite 1425, Arlington, VA 22209-1762; telephone: 703-525-1695; fax: 703-528-2148; website: www.safetyequipment.org. | Remove full paragraph citations for outlying sections. Update mailing address for the International Safety Equipment Association.
1915.5(e) The following material is available for purchase from the American Society of Mechanical Engineers, 345 East 47th Street, New York, New York 10017: | 1915.5(e) American Society of Mechanical Engineers (ASME), Two Park Avenue, New York, New York 10016; telephone: (800) 843-2763; email: CustomerCare@asme.org; website: https://www.asme.org/codes-standards: | Update contact information for ASME.
1915.5(f) The following material is available for purchase from the American Conference of Governmental Industrial Hygienists (ACGIH), 1014 Broadway, Cincinnati, OH 45202: | 1915.5(f) American Conference of Governmental Industrial Hygienists (ACGIH), 3640 Park 42 Drive, Cincinnati, OH 45241; telephone: (513) 742-2020; website: https://www.acgih.org/publications/: | Update contact information for ACGIH.
1915.5(f)(1)(i) The following material is available for purchase from the National Fire Protection Association, 1 Batterymarch Park, P.O. Box 9101, Quincy, MA 02269-9101: | 1915.5(i) National Fire Protection Association, 1 Batterymarch Park, P.O. Box 9101, Quincy, MA 02269-9101; telephone: (800) 344-3555; email: orders@nfpa.org; website: https://www.nfpa.org/Codes-and-Standards: | All of paragraph (i) is out of sequence following the publication of 84 FR 21416, May 14, 2019. Update the contact information for NFPA.
1915.5(g) Copies of the standards listed in this paragraph (g) are available for purchase from ASTM International, 100 Barr Harbor Drive, P.O. Box C700, West Conshohocken, PA 19428-2959; telephone: 610-832-9585; fax: 610-832-9555; e-mail: seviceastm.org; website: http://www.astm.org: | 1915.5(g) Copies of the standards listed in this paragraph (g) are available for purchase from ASTM International, 100 Barr Harbor Drive, P.O. Box C700, West Conshohocken, PA 19428-2959; telephone: 610-832-9500; fax: 610-832-9555; email: service@astm.org; website: www.astm.org: | The email address in paragraph (g) was published incorrectly in 74 FR 46350, Sept. 9, 2009. Update the telephone number for ASTM International.

II. Exemption From Notice-and-Comment Procedures

OSHA has determined that these corrections are not subject to the procedures for public notice and comment specified in the Administrative Procedures Act (5 U.S.C. 553), and Section 6(b) of the Occupational Safety and Health Act of 1970 (29 U.S.C. 655(b)). This rulemaking only corrects minor errors and makes non-substantive codification changes. No stakeholder is likely to object to these corrections. Therefore, the agency finds good cause that public notice and comment are unnecessary within the meaning of 5 U.S.C. 553(b)(3)(B), 29 U.S.C. 655(b), and 29 CFR 1911.5.

List of Subjects for 29 CFR Part 1915

Incorporation by reference.

Authority and Signature

James S. Frederick, Acting Assistant Secretary of Labor for Occupational Safety and Health, U.S. Department of Labor, 200 Constitution Avenue NW, Washington, DC 20210, authorized the preparation of this notice pursuant to Sections 4, 6, and 8 of the Occupational Safety and Health Act of 1970 (29 U.S.C. 653, 655, and 657); Secretary of Labor's Order 8-2020 (85 FR 58393 (Sept. 18, 2020)); 29 CFR part 1911; and 5 U.S.C. 553.

Signed at Washington, DC, on September 13, 2021.
James S. Frederick,
Acting Assistant Secretary of Labor for Occupational Safety and Health.

Amendment to Standard [corrected]

For the reasons set forth above, 29 CFR part 1915 is amended as follows:

PART 1915—OCCUPATIONAL SAFETY AND HEALTH STANDARDS FOR SHIPYARD EMPLOYMENT

1. The authority citation for part 1915 continues to read as follows:

Authority: 33 U.S.C. 941; 29 U.S.C. 653, 655, 657; Secretary of Labor's Order No. 12-71 (36 FR 8754); 8-76 (41 FR 25059), 9-83 (48 FR 35736), 1-90 (55 FR 9033), 6-96 (62 FR 111), 3-2000 (65 FR 50017), 5-2002 (67 FR 65008), 5-2007 (72 FR 31160), 4-2010 (75 FR 55355), or 1-2012 (77 FR 3912); 29 CFR part 1911; and 5 U.S.C. 553, as applicable.

2. Revise and republish § 1915.5 to read as follows:

§ 1915.5 Incorporation by reference.

(a) Specifications, standards, and codes of agencies of the U.S. Government, to the extent specified in the text, form a part of the regulations of this part. In addition, under the authority vested in the Secretary under the Act, the specifications, standards, and codes of organizations which are not agencies of the U.S. Government, in effect on the date of the promulgation of the regulations of this part as listed below, to the extent specified in the text, form a part of the regulations of this part.

(b)(1) The standards listed in this section are incorporated by reference into this part with the approval of the Director of the Federal Register in accordance with 5 U.S.C. 552(a) and 1 CFR part 51. To enforce any edition other than that specified in this section, OSHA must publish a document in the Federal Register and the material must be available to the public.

(2) Any changes in the standards incorporated by reference in this part and an official historic file of such changes are available for inspection in the Docket Office at the national office of the Occupational Safety and Health Administration, U.S. Department of Labor, Washington, DC 20210; telephone: 202-693-2350 (TTY number: 877-889-5627).

(3) Copies of standards listed in this section and issued by private standards organizations are available for purchase from the issuing organizations at the addresses or through the other contact information listed elsewhere in this section for these private standards organizations. In addition, the standards are available for inspection at any Regional Office of the Occupational Safety and Health Administration (OSHA), or at the OSHA Docket Office, U.S. Department of Labor, 200 Constitution Avenue NW, Room N-3508, Washington, DC 20210; telephone: 202-693-2350 (TTY number: 877-889-5627). These standards are also available for inspection at the National Archives and Records Administration (NARA). For information on the availability of these standards at NARA, email fr.inspection@nara.gov, or go to www.archives.gov/federal-register/cfr/ibr-locations.html.

(c) [Reserved]

(d) American National Standards Institute (ANSI), 25 West 43rd Street, 4th Floor, New York, NY 10036; telephone: 212-642-4900; fax: 212-398-0023; website: www.ansi.org://

(1) ANSI A14.1-1975 Safety Requirements for Portable Wood Ladders, IBR approved for § 1915.72(a).

(2) ANSI A14.2-1972 Safety Requirements for Portable Metal Ladders, IBR approved for § 1915.72(a).

(3) ANSI B7.1-1964 Safety Code for the Use, Care, and Protection of Abrasive Wheels, IBR approval for § 1915.134(c).

(4) ANSI Z41-1999, American National Standard for Personal Protection—Protective Footwear; IBR approved for § 1915.156(b). Copies of ANSI Z41-1999 are available for purchase only from the National Safety Council, 1121 Spring Lake Drive, Itasca, IL 60143-3201; telephone: (800) 621-7619; fax: 630-285-1434; website: www.nsc.org.

(5) ANSI Z41-1991, American National Standard for Personal Protection—Protective Footwear; IBR approved for § 1915.156(b). Copies of ANSI Z41-1991 are available for purchase only from the National Safety Council, 1121 Spring Lake Drive, Itasca, IL 60143-3201; telephone: (800) 621-7619; fax: 630-285-1434; website: www.nsc.org.

(6) ANSI/ISEA Z87.1-2010, Occupational and Educational Personal Eye and Face Protection Devices, approved April 13, 2010; IBR approved for § 1915.153(b). Copies are available for purchase from:

(i) ANSI Webstore, 25 W 43rd Street, 4th Floor, New York, NY 10036; telephone: (212) 642-4980; website: https://webstore.ansi.org;

(ii) IHS Standards Store, 15 Inverness Way East, Englewood, CO 80112; telephone: (800) 447-2273; website: https://global.ihs.com; or

(iii) TechStreet Store, 3025 Boardwalk Drive, Suite 220, Ann Arbor, MI 48108; telephone: (855) 999-9870; website: www.techstreet.com.

(7) ANSI Z87.1-2003, Occupational and Educational Personal Eye and Face Protection Devices, approved June 19, 2003; IBR approved for § 1915.153(b). Copies available for purchase from the:

(i) ANSI Webstore, 25 W 43rd Street, 4th Floor, New York, NY 10036; telephone: (212) 642-4980; website: https://webstore.ansi.org/;

(ii) IHS Standards Store, 15 Inverness Way East, Englewood, CO 80112; telephone: (800) 447-2273; website: https://global.ihs.com; or

(iii) TechStreet Store, 3025 Boardwalk Drive, Suite 220, Ann Arbor, MI 48108; telephone: (855) 999-9870; website: www.techstreet.com.

(8) ANSI Z87.1-1989 (R-1998), Practice for Occupational and Educational Eye and Face Protection, Reaffirmation approved January 4, 1999; IBR approved for § 1915.153(b). Copies are available for purchase from:

(i) ANSI Webstore, 25 W 43rd Street, 4th Floor, New York, NY 10036; telephone: (212) 642-4980; website: https://webstore.ansi.org/;

(ii) IHS Standards Store, 15 Inverness Way East, Englewood, CO 80112; telephone: (800) 447-2273; website: https://global.ihs.com; or

(iii) TechStreet Store, 3025 Boardwalk Drive, Suite 220, Ann Arbor, MI 48108; telephone: (855) 999-9870; website: www.techstreet.com.

(9) American National Standards Institute (ANSI) Z89.1-2009, American National Standard for Industrial Head Protection, approved January 26, 2009; IBR approved for § 1915.155(b). Copies of ANSI Z89.1-2009 are available for purchase only from the International Safety Equipment Association, 1101 Wilson Boulevard, Suite 1425, Arlington, VA 22209-1762; telephone: 703-525-1695; fax: 703-528-2148; website: www.safetyequipment.org.

(10) American National Standards Institute (ANSI) Z89.1-2003, American National Standard for Industrial Head Protection; IBR approved for § 1915.155(b). Copies of ANSI Z89.1-2003 are available for purchase only from the International Safety Equipment Association, 1101 Wilson Boulevard, Suite 1425, Arlington, VA 22209-1762; telephone: 703-525-1695; fax: 703-528-2148; website: www.safetyequipment.org.

(11) American National Standards Institute (ANSI) Z89.1-1997, American National Standard for Personnel Protection—Protective Headwear for Industrial Workers—Requirements; IBR approved for § 1915.155(b). Copies of ANSI Z89.1-1997 are available for purchase only from the International Safety Equipment Association, 1101 Wilson Boulevard, Suite 1425, Arlington, VA 22209-1762; telephone: 703-525-1695; fax: 703-528-2148; website: www.safetyequipment.org.

(12) ANSI/IESNA RP-7-01, Recommended Practice for Lighting Industrial Facilities, ANSI approved July 26, 2001, IBR approved for § 1915.82(a).

(13) ANSI/ISEA Z308.1-2009, Revision of ANSI Z308.1-2003, Minimum Requirements for Workplace First Aid Kits and Supplies, ANSI approved May 8, 2009, IBR approved for § 1915.87 Appendix A.

Note 1 to paragraph (d): Unless otherwise indicated, all standards in this paragraph (d) are available from ANSI.

(e) American Society of Mechanical Engineers (ASME), Two Park Avenue, New York, New York 10016; telephone: (800) 843-2763; email: CustomerCare@asme.org; website: https://www.asme.org/codes-standards:

(1) ASME Boiler and Pressure Vessel Code, Section VIII, Rules for Construction of Unfired Pressure Vessels, 1963, IBR approved for § 1915.172(a).

(2) [Reserved]

(f) American Conference of Governmental Industrial Hygienists (ACGIH), 3640 Park 42 Drive, Cincinnati, OH 45241; telephone: (513) 742-2020; website: https://www.acgih.org/publications/:

(1) Threshold limit values, 1970, IBR approved for §§ 1915.12(b) and 1915.1000, table Z.

(2) [Reserved]

(g) ASTM International, 100 Barr Harbor Drive, P.O. Box C700, West Conshohocken, PA 19428-2959; telephone: 610-832-9500; fax: 610-832-9555; email: service@astm.org; website: www.astm.org:

(1) ASTM F-2412-2005, Standard Test Methods for Foot Protection; IBR approved for § 1915.156(b).

(2) ASTM F-2413-2005, Standard Specification for Performance Requirements for Protective Footwear; IBR approved for § 1915.156(b).

(h) International Labour Organization (ILO), 4 route des Morillons, CH-1211 Genève 22, Switzerland; telephone: +41 (0) 22 799 6111; fax: +41 (0) 22 798 8685; website: www.ilo.org/.

(1) Guidelines for the Use of the ILO International Classification of Radiographs of Pneumoconioses, Revised Edition 2011, Occupational safety and health series; 22 (Rev. 2011), IBR approved for § 1915.1001.

(2) [Reserved]

(i) National Fire Protection Association (NFPA), 1 Batterymarch Park, P.O. Box 9101, Quincy, MA 02269-9101; telephone: (800) 344-3555; email: orders@nfpa.org; website: https://www.nfpa.org/Codes-and-Standards:

(1) NFPA 1981-2002 Standard on Open-Circuit Self-Contained Breathing Apparatus for Fire and Emergency Services, IBR approved for 1915.505(e).

(2) NFPA 1971-2000, Standard on Protective Ensemble for Structural Fire Fighting, IBR approved for § 1915.505(e).

(3) NFPA 1976-2000, Standard on Protective Ensemble for Proximity Fire Fighting, IBR approved for § 1915.505(e).

(4) NFPA 1982-1998, Standard on Personal Alert Safety Systems (PASS), IBR approved for § 1915.505(e).

(5) NFPA 1983-2001, Standard on Fire Service Life Safety Rope and System Components, IBR approved for § 1915.505(e).

(6) NFPA 10-2002 Standard for Portable Fire Extinguishers, IBR approved for § 1915.507(b).

(7) NFPA 14-2003 Standard for the Installation of Standpipe and Hose Systems, IBR approved for §§ 1915.507(b) and (d).

(8) NFPA 72-2002 National Fire Alarm Code, IBR approved for § 1915.507(c).

(9) NFPA 13-2002 Standard for the Installation of Sprinkler Systems, IBR approved for § 1915.507(d).

(10) NFPA 750-2003 Standard on Water Mist Fire Protection Systems, IBR approved for § 1915.507(d).

(11) NFPA 25-2002, Inspection, Testing, and Maintenance of Water-Based Fire Protection Systems, IBR approved for § 1915.507(d).

(12) NFPA 15-2001, Standard for Water Spray Fixed Systems for Fire Protection, IBR approved for § 1915.507(d).

(13) NFPA 11-2005 Standard for Low-, Medium-, and High-Expansion Foam, IBR approved for § 1915.507(d).

(14) NFPA 17-2002, Standard for Dry Chemical Extinguishing Systems, IBR approved for § 1915.507(d).

(15) NFPA 12-2005, Standard on Carbon Dioxide Extinguishing Systems, IBR approved for § 1915.507(d).

(16) NFPA 12A-2004, Standard on Halon 1301 Fire Extinguishing Systems, IBR approved for § 1915.507(d).

(17) NFPA 2001-2004, Standard on Clean Agent Fire Extinguishing Systems, IBR approved for § 1915.507(d).

(18) NFPA 1403-2002, Standard on Live Fire Training Evolutions, IBR approved for § 1915.508(d).

[FR Doc. 2021-20099 Filed 10-1-21; 8:45 am]

BILLING CODE 4510-26-P